DEPARTMENT OF THE INTERIOR

National Park Service

[NPS-WASO-NRNHL-0512-10197; 2200-3200-665]

National Register of Historic Places; Notification of Pending Nominations and Related Actions

Nominations for the following properties being considered for listing or related actions in the National Register were received by the National Park Service before April 21, 2012. Pursuant to section 60.13 of 36 CFR Part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th floor, Washington DC 20005; or by fax, 202-371-6447. Written or faxed comments should be submitted by May 29, 2012. Before including your address, phone number, email address, or other personal identifying information in your comment, you should be aware that your entire comment—including your personal identifying information—may be made publicly available at any time. While you can ask us in your comment to withhold your personal identifying information from public review, we cannot guarantee that we will be able to do so.

J. Paul Loether,
Chief, National Register of Historic Places/National Historic Landmarks Program.

ALABAMA

Baldwin County

Foley Downtown Historic District (Boundary Decrease), Parts of Alston, McKenzie, N. & S. Laurel, & W. Orange Sts., Foley, 12000316

FLORIDA

St. Johns County

Father Francisco Lopez Statue, 27 Ocean Ave., Saint Augustine, 12000317

IOWA

Adams County

Corning Commercial Historic District, 513-824 Davis, & 701-829 Benton Aves., & cross streets, Corning, 12000318

WISCONSIN

Milwaukee County

Peckham Junior High School, 3245 N. 37th St., Milwaukee, 12000319

A request for removal has been made for the following resource:

CALIFORNIA

San Diego

Aztec Bowl—Hardy Ave. between 55th St. and Campanile Dr., San Diego State University, San Diego, 94000402

[FR Doc. 2012-11460 Filed 5-10-12; 8:45 am]

BILLING CODE 4312-51-P